FEDERAL RESERVE SYSTEM

Change in Bank Control Notices; Acquisition of Shares of Bank or Bank Holding Companies

The notificants listed below have applied under the Change in Bank Control Act (12 U.S.C. 1817(j)) and § 225.41 of the Board's Regulation Y (12 CFR 225.41) to acquire a bank or bankholding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than October 3, 2002.

A. Federal Reserve Bank of Chicago (Phillip Jackson, Applications Officer) 230 South LaSalle Street, Chicago, Illinois 60690-1414:

1. Mark B. Richardson, Thetford Center, Vermont and Kimberly A. Richardson, Atlanta, Georgia; to acquire voting shares of Wellington Bancorp, Inc., Springfield, Illinois, and thereby indirectly acquire Community Bank, Hoopeston, Illinois.

B. Federal Reserve Bank of Kansas City (Susan Zubradt, Assistant Vice President) 925 Grand Avenue, Kansas City, Missouri 64198-0001:

1. Rinda Kay Harper, individually and as trustee of The Kay Harper Revocable Living Trust, Edmond, Oklahoma; to acquire voting shares of First Jones Bancorporation, Inc., Jones, Oklahoma, and thereby indirectly acquire First State Bank, Jones, Oklahoma.

Board of Governors of the Federal Reserve System, September 13, 2002.
Robert deV. Frierson,
Deputy Secretary of the Board.

[FR Doc. 02-23789 Filed 9-18-02; 8:45 am]

BILLING CODE 6210-01-S